SMALL BUSINESS ADMINISTRATION

National Small Business Development Center Advisory Board Public Meeting; Correction

The U.S. Small Business Administration National Small Business Development Center Advisory Board will be hosting a public meeting via conference call to discuss such matters that may be presented by members, and the staff of the U.S. Small Business Administration or interested others. Previously, the meeting date was incorrectly announced for Tuesday, April 29, 2005. The correct meeting date is Tuesday, April 19, 2005, at 1 p.m. eastern standard time.

Anyone wishing to make an oral presentation to the Board must contact Dionna Martin, Senior Program Manager, U.S. Small Business Administration, Office of Small Business Development Center, 409 3rd Street, SW., Washington, DC 20416, telephone (202) 205-7042; fax (202) 481-1671.

Matthew K. Becker,
Committee Manager Officer.

[FR Doc. 05-6572 Filed 4-1-05; 8:45 am]

BILLING CODE 8025-01-P